DEPARTMENT OF AGRICULTURE

Food and Nutrition Service

Agency Information Collection Activities; Comment Request: National Universal Product Code (NUPC) Database

AGENCY: Food and Nutrition Service (FNS), USDA.

ACTION: Notice.

SUMMARY: In accordance with the Paperwork Reduction Act of 1995, this notice invites the general public and other public agencies to comment on this proposed information collection. This collection is an extension, without change, of a currently approved collection for the maintenance of a central repository containing information about authorized foods in the Special Supplemental Nutrition Program for Women, Infants and Children (WIC), as approved by various WIC State agencies.

DATES: Written comments must be received on or before July 6, 2018.

ADDRESSES: Comments may be sent to: Kurtria Watson, Food and Nutrition Service, U.S. Department of Agriculture, 3101 Park Center Drive, Room 524, Alexandria, VA 22302. Comments may also be submitted via fax to the attention of Kurtria Watson at 703-305-2196 or via email to Kurtria.Watson@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Kurtria Watson at 703-605-4387.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: National Universal Product Code (NUPC) Database.

Form Number: N/A.

OMB Number: 0584-0552.

Expiration Date: August 31, 2018.

Type of Request: Extension, without change, of a currently approved collection.

Abstract: The Special Supplemental Nutrition Program for Women, Infants and Children (WIC), (Pub. L. 109-85) provides low-income pregnant, breastfeeding, and postpartum women, infants, and children up to age five with nutritious supplemental foods, nutrition education, including breastfeeding promotion and support, and referrals to health and social services. The WIC Program is administered by the USDA Food and Nutrition Service (FNS). FNS provides grant funding and issues regulations which are utilized by WIC State agencies to operate the WIC Program and distribute benefits through local WIC clinics. The program operates throughout the 50 States, the District of Columbia, Guam, Puerto Rico, American Samoa, Commonwealth of the Northern Mariana Islands, the U.S. Virgin Islands, and in 34 Indian Tribal Organizations.

The reporting and record-keeping associated with WIC State agencies and their management of the NUPC database is not included in this burden calculation. Burden hours associated with WIC State agencies and their management of the NUPC database is included in the burden calculation associated with the WIC program regulations, OMB Control Number 0584-0043.

WIC Regulations at 7 CFR part 246 require State agencies to authorize eligible foods for their WIC food list. Under these regulations, State agencies must review food products for eligibility in accordance with Federal regulations and State agency policies. State agencies are not required to authorize all food products eligible under federal regulations, but generally select foods based on factors such as cost, availability and acceptability to participants. After review, the State agency develops a list of food items available for WIC participants for purchase. This food list is known as the Authorized Products List (APL). State agencies require authorized vendors (i.e., stores authorized to provide WIC foods) to ensure only approved food items are purchased. In State agencies that have transitioned to Electronic Benefit Transfer (EBT) systems, authorized vendors must program their point of sale systems to identify WIC approved foods and their associated Universal Product Code (UPC) or Price Look-Up (PLU) code as individual products are scanned at the checkout. Vendors in State agencies that have not transitioned to EBT rely on their checkout clerks to ensure only authorized WIC products are approved for purchase.

WIC State agencies operating EBT systems provide their authorized vendors with an electronic file containing the State agency's current list of authorized foods. As products are scanned at the checkout lane, the UPC or PLU is matched to the State specific APL. Food items matching the APL, and which are presented in quantities less than or equal to the remaining benefit balance associated with the participant's WIC EBT card, are approved for purchase. Unmatched items, or items in excess of the available account balance, may not be purchased with WIC benefits.

The Healthy, Hunger-Free Kids Act of 2010 directed the Secretary of Agriculture to establish a National Universal Product Code (NUPC) database for use by all WIC State agencies as they implement EBT statewide. As a result of this legislation, FNS expanded the number of data elements contained in the existing NUPC database while simultaneously reducing the burden on WIC State agency employees by assembling food product information in an easily accessible repository. NUPC database modifications and expansion activities have allowed for the storage and retrieval of additional data elements for each WIC authorized food to include: Nutrition facts panel information, ingredients, special processing practices (i.e., Kosher or Halal), and a free form comments field. The NUPC retained all previously used product identifier fields. Responsibility for populating the NUPC database resides with an independent contractor who serves as the single point of entry for all information entering the NUPC database. This contractor ensures NUPC data is captured with a high level of accuracy while preserving data integrity in a standardized format. The NUPC database provides all WIC State agencies with access to a central repository containing comprehensive information about authorized WIC foods. State agencies may choose to use the NUPC database to create an initial list of authorized foods eligible for redemption by WIC Program participants. Subsequently, State agencies may use the NUPC database to maintain their list of authorized foods, and to create an APL for distribution to authorized vendors when operating in the EBT environment.

Affected Public: Businesses or Other For Profit Organizations. Respondent groups identified include: (1) Food Manufacturers and Distributors; (2) Authorized Vendors.

Estimated Number of Respondents: The total estimated number of respondents is 360. This includes 240 food manufacturers or distributors and 120 authorized vendors.

Estimated Number of Responses per Respondent: 3.33. The 240 food manufacturers or distributors will be asked to provide product information in electronic format (.doc, .xls, .pdf). All responses are voluntary. FNS estimates that each of the food manufacturers or distributors will be asked to provide product information 4 times per year on average and that each of the 120 authorized vendors will be asked to provide product information 2 times per year on average.

Estimated Total Annual Responses: The total number of responses is estimated to be 1,200. FNS estimates food manufacturers or distributors will be asked to respond a total of 960 times per year (240 food manufacturers or distributors × 4 responses per year each = 960). FNS estimates authorized vendors will be asked to respond a total of 240 times per year (120 authorized vendors × 2 responses per year each = 240). All responses are voluntary.

Estimated Time per Response: The estimated time per response varies by type of respondent. FNS expects all respondents will expend 12 hours per respondent per year to develop, maintain, and troubleshoot the electronic systems for use in transmitting information. The estimated time required to develop, maintain, and troubleshoot electronic systems is amortized over the expected number of responses. FNS also expects all respondents will expend 2 seconds per response to transmit information to FNS electronically. Since the time required to actually transmit the information to FNS is considered negligible (total of 40 minutes per year for all respondents), it was omitted from the burden calculation. FNS expects that food manufacturers or distributors will expend 6 hours per response to gather and format the requested information. Authorized vendors are expected to expend 1 hour per response to gather and format the requested information. The estimated time per response for food manufacturers or distributors is expected to be 9 hours per response ((12 hours per year/4 responses per year) + 6 hours per response = 9 hours per response). The estimated time per response for authorized vendors is expected to be 7 hours per response ((12 hours per year/2 responses per year) + 1 hour per response = 7 hours per response).

Estimated Total Annual Burden on Respondents: 10,320 hours. The table below provides an estimated total annual burden for each type of respondent:

Respondent | Estimated number of respondents | Response annually per respondent | Total annual responses | Estimated average number of hours per response | Estimated total annual burden (hours)
Food Manufacturers and Distributors | 240 | 4 | 960 | 9 | 8,640
Authorized Vendors | 120 | 2 | 240 | 7 | 1,680
Total | 360 | 3.33 | 1,200 | 8.6 | 10,320

Dated: April 27, 2018.
Brandon Lipps,
Administrator, Food and Nutrition Service.

[FR Doc. 2018-09625 Filed 5-4-18; 8:45 am]

BILLING CODE 3410-30-P